DEPARTMENT OF VETERANS AFFAIRS

Advisory Committee on Former Prisoners of War; Notice of Meeting

The Department of Veterans Affairs (VA) gives notice under Public Law 92-463 (Federal Advisory Committee Act) that the Advisory Committee on Former Prisoners of War (FPOW) has scheduled a meeting for April 10-12, 2006, Room 430, VA Central Office, 810 Vermont Avenue NW., Washington, DC. The meeting will be held each day from 9 a.m. to 4 p.m. The meeting is open to the public.

The purpose of the Committee is to advise the Secretary of Veterans Affairs on the administration of benefits under title 38, United States Code, for veterans who are former prisoners of war, and to make recommendations on the needs of such veterans for compensation, health care, and rehabilitation.

On April 10, the meeting will include an introduction of Committee members, remarks from dignitaries, a review of Committee reports, an update of Committee activities, and time for FPOW veterans and/or the public to address the Committee. On April 11, the Committee will receive reports from the Veterans Health Administration and the Veterans Benefits Administration. The Committee will also get an update from the Robert E. Mitchell Center for Prisoner of War Studies. On April 12, the Committee's medical and administrative work groups will meet to discuss their activities and report back to the Committee. Additionally, the Committee will review issues discussed throughout the meeting to compile a report to be sent to the Secretary.

Members of the public may ask questions or submit written statements for review by the Committee in advance of the meeting to Ms. Renée L. Szybala, Director, Compensation and Pension Service (21), Department of Veterans Affairs, 810 Vermont Avenue, NW., Washington, DC 20420.

Dated: March 17, 2006.
By Direction of the Secretary.
E. Philip Riggin,
Committee Management Officer.

[FR Doc. 06-3278 Filed 4-5-06; 8:45 am]

BILLING CODE 8320-01-M